DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: April 16, 2020, 10:00 a.m.

PLACE: Open to the public via audio Webcast only.¹

¹ Join FERC online to listen live at http://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1066th—Meeting
Open Meeting
[April 16, 2020, 10:00 a.m.]
Item No. | Docket No. | Company
Administrative
A-1 | AD20-1-000 | Agency Administrative Matters.
A-2 | AD20-2-000 | Customer Matters, Reliability, Security and Market Operations.
Electric
E-1 | RM19-5-001 | Public Utility Transmission Rate Changes to Address Accumulated Deferred Income Taxes.
E-2 | OMITTED
E-3 | OMITTED
E-4 | EL16-49-001 | Calpine Corporation, Dynegy Inc., Eastern Generation, LLC, Homer City Generation, L.P., NRG Power Marketing LLC, GenOn Energy Management, LLC, Carroll County Energy LLC, C.P. Crane LLC, Essential Power, LLC, Essential Power OPP, LLC, Essential Power Rock Springs, LLC, Lakewood Cogeneration, L.P., GDF SUEZ Energy Marketing NA, Inc., Oregon Clean Energy, LLC and Panda Power Generation Infrastructure Fund, LLC v. PJM Interconnection, L.L.C.
| EL18-178-001, ER18-1314-002, (Consolidated) | PJM Interconnection, L.L.C.
E-5 | EL16-49-002 | Calpine Corporation, Dynegy Inc., Eastern Generation, LLC, Homer City Generation, L.P., NRG Power Marketing LLC, GenOn Energy Management, LLC, Carroll CountyEnergy LLC, C.P. Crane LLC, Essential Power, LLC, Essential Power OPP, LLC, Essential Power Rock Springs, LLC, Lakewood Cogeneration, L.P., GDF SUEZ Energy Marketing NA, Inc., Oregon Clean Energy, LLC and Panda Power Generation Infrastructure Fund, LLC v. PJM Interconnection, L.L.C.
| EL18-178-002, (Consolidated) | PJM Interconnection, L.L.C.
E-6 | EL18-169-000 | CPV Power Holdings, L.P., Calpine Corporation and Eastern Generation, LLC v. PJM Interconnection, L.L.C.
E-7 | EL19-59-000 | Consumers Energy Company v. Midcontinent Independent System Operator, Inc. and Michigan Electric Transmission Company, LLC.
E-8 | EL19-38-000 | City and County of San Francisco v. Pacific Gas and Electric Company.
E-9 | ER20-511-002 | Wilderness Line Holdings, LLC.
E-10 | ER20-519-000, TS20-2-000 | Wilderness Line Holdings, LLC.
E-11 | ER19-211-001 | Entergy Arkansas, Inc.
E-12 | EC19-18-001 | Entergy Services, LLC, Entergy Arkansas, Inc., Entergy Louisiana, LLC, Entergy Mississippi, Inc., Entergy New Orleans, LLC, and Entergy Texas, Inc.
E-13 | OMITTED
E-14 | EL17-62-000 | Potomac Economics, Ltd. v. PJM Interconnection, L.L.C.
E-15 | EL18-183-000 | Radford's Run Wind Farm, LLC v. PJM Interconnection, L.L.C.
E-16 | OMITTED
E-17 | ER15-2563-002, EL15-95-002 | PJM Interconnection, L.L.C., Delaware Public Service Commission and Maryland Public Service Commission v. PJM Interconnection, L.L.C. and Certain Transmission Owners Designated under CTOA RS FERC No. 42.
E-18 | ER19-105-004 | PJM Interconnection, L.L.C.
E-19 | ER19-6-003 | Delmarva Power & Light Company and PJM Interconnection, L.L.C.
E-20 | ER20-922-000 | New York Independent System Operator, Inc.
E-21 | ER19-1927-002 | Portland General Electric Company.
E-22 | ER09-1165-000 | Duke Energy Progress, LLC.
E-23 | ER19-1900-002 | Golden Spread Electric Cooperative, Inc.
E-24 | ER19-470-003 | ISO New England Inc.
E-25 | ER19-1920-002 | Tampa Electric Company.
E-26 | EL10-65-006 | Louisiana Public Service Commission v. Entergy Corporation, Entergy Services Inc., Entergy Louisiana, LLC, Entergy Arkansas, Inc., Entergy Mississippi, Inc., Entergy New Orleans, Inc., Entergy Gulf States Louisiana, L.L.C., and Entergy Texas, Inc.
| ER14-2085-002, ER11-3658-002, ER12-1920-002, ER13-1595-002, (Consolidated) | Entergy Services, Inc.
HYDRO
H-1 | P-2266-102 | Nevada Irrigation District.
H-2 | P-943-131 | Public Utility District No. 1 of Chelan County, Washington.
H-3 | P-14858-002 | McMahan Hydroelectric, LLC.
CERTIFICATES
C-1 | CP19-477-000 | Mountain Valley Pipeline, LLC.
C-2 | CP20-2-000 | National Fuel Gas Supply Corporation.
C-3 | CP17-101-001 | Transcontinental Gas Pipe Line Company, LLC.
C-4 | CP18-18-001 | Transcontinental Gas Pipe Line Company, LLC.
C-5 | RP20-41-001 | PennEast Pipeline Company, LLC.
C-6 | CP18-46-002 | Adelphia Gateway, LLC.
C-7 | CP19-104-001 CP19-103-001 | Texas Eastern Transmission, LP. Columbia Gas Transmission, LLC.
C-8 | OMITTED
C-9 | CP14-57-000 | Freeport LNG Development, L.P.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: April 9, 2020.
Nathaniel J. Davis, Sr.,
Deputy Secretary.

[FR Doc. 2020-07925 Filed 4-10-20; 11:15 am]

BILLING CODE 6717-01-P